DEPARTMENT OF THE INTERIOR

National Park Service

[NPS-WASO-NAGPRA-NPS0039257; PPWOCRADN0-PCU00RP14.R50000]

Notice of Intended Repatriation: The University of Kansas, Lawrence, KS

AGENCY: National Park Service, Interior.

ACTION: Notice.

SUMMARY: In accordance with the Native American Graves Protection and Repatriation Act (NAGPRA), the University of Kansas intends to repatriate a certain cultural item that meets the definition of an unassociated funerary object and that has a cultural affiliation with the Indian Tribes or Native Hawaiian organizations in this notice.

DATES: Repatriation of the cultural item in this notice may occur on or after January 29, 2025.

ADDRESSES: Dr. Thomas Torma, University of Kansas, Office of Audit, Risk & Compliance, The University of Kansas, 1450 Jayhawk Boulevard, 351 Strong Hall Lawrence, KS 66045, telephone (406) 850-2220, email t-torma@ku.edu.

SUPPLEMENTARY INFORMATION: This notice is published as part of the National Park Service's administrative responsibilities under NAGPRA. The determinations in this notice are the sole responsibility of the University of Kansas, and additional information on the determinations in this notice, including the results of consultation, can be found in the summary or related records. The National Park Service is not responsible for the determinations in this notice.

Abstract of Information Available

A total of one cultural item has been requested for repatriation. The one unassociated funerary object is a silver ring. The ring was taken from an Arapaho man named Wox-Ei-Bet', also known as Walks-a-Bed, after having been killed by an individual known only as “K-”in 1874 at Camp Supply, Indian Country—present day Fort Supply, Oklahoma. Wox-Ei-Bet' had a great-great-great-grandson who is related to the Birdshead Family of the Southern Arapaho in Oklahoma. The Birdshead family has deferred to the Cheyenne and Arapaho Tribes, Oklahoma on this repatriation.

The ring was given to the Benedictine College Museum in Atchison, KS by a person identified as R. Kitching, likely in the 1920s. Father Felix Nolte was the curator of the Benedictine College Museum and the items collected during his tenure are referred to as the Father Felix Nolte collection. The collections from Benedictine College were transferred to the University of Kansas Museum of Anthropology (KUMA) in 1998. KUMA closed to the public in August 2002 and the collections were renamed the Anthropological Research and Cultural Collections (ARCC) in July 2005. The collections were then transferred internally within the University of Kansas from the ARCC to the Spencer Museum of Art in January 2007.

There is no known presence of any potentially hazardous substances used to treat the cultural item mentioned in this notice.

Determinations

The University of Kansas has determined that:

• The one unassociated funerary object described in this notice is reasonably believed to have been placed intentionally with or near human remains, and are connected, either at the time of death or later as part of the death rite or ceremony of a Native American culture according to the Native American traditional knowledge of a lineal descendant, Indian Tribe, or Native Hawaiian organization. The unassociated funerary object has been identified by a preponderance of the evidence as related to human remains, specific individuals, or families, or removed from a specific burial site or burial area of an individual or individuals with cultural affiliation to an Indian Tribe or Native Hawaiian organization.

• There is a reasonable connection between the cultural item described in this notice and the Cheyenne and Arapaho Tribes, Oklahoma.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after January 29, 2025. If competing requests for repatriation are received, the University of Kansas must determine the most appropriate requestor prior to repatriation. Requests for joint repatriation of the cultural item are considered a single request and not competing requests. The University of Kansas is responsible for sending a copy of this notice to the Indian Tribes and Native Hawaiian organizations identified in this notice and to any other consulting parties.

Authority: Native American Graves Protection and Repatriation Act, 25 U.S.C. 3004 and the implementing regulations, 43 CFR 10.9.

Dated: December 19, 2024.
Melanie O'Brien,
Manager, National NAGPRA Program.

[FR Doc. 2024-31304 Filed 12-27-24; 8:45 am]

BILLING CODE 4312-52-P